POSTAL SERVICE

39 CFR Part 111

Periodicals Mail Enclosures With Merchandise Sent at Parcel Post or Bound Printed Matter Rates

AGENCY: Postal Service.

ACTION: Proposed rule.

SUMMARY: This proposed rule provides standards that would allow sample copies of authorized Periodicals publications to be mailed with merchandise mailed at Parcel Post® or Bound Printed Matter rates of postage.

DATES: Comments on the proposed standards must be received on or before October 4, 2004.

ADDRESSES: Written comments should be mailed or delivered to the Manager, Mailing Standards, U.S. Postal Service, 475 L'Enfant Plaza SW., Room 3436, Washington DC 20260-3436. Copies of all written comments will be available for inspection and photocopying between 9 a.m. and 4 p.m., Monday through Friday, at USPS Headquarters Library, 475 L'Enfant Plaza SW., Washington, DC 20260-0004.

FOR FURTHER INFORMATION CONTACT: Donald Lagasse, 202-268-7269, Donald.T.Lagasse@usps.gov.

SUPPLEMENTARY INFORMATION: On February 25, 2004, pursuant to 39 U.S.C. 83623, the Postal Service filed with the Postal Rate Commission a request for a decision recommending a minor mail classification change. The proposed change will permit sample copies of authorized and pending Periodicals publications to be enclosed with merchandise mailed at Parcel Post or Bound Printed Matter rates. This change was recommended by the Postal Rate Commission on July 7, 2004, and approved by the Board of Governors on July 19, 2004. The Board of Governors established October 3, 2004, as the implementation date for the change.

The proposed change will not affect any existing classification regarding eligibility (such as the subscriber percentage) for Periodicals rates. The weight of the sample publication would be included in the postage calculation to cover any additional costs in transporting slightly heavier parcels. The proposed change will benefit both publishers and the Postal Service by providing another venue for promoting publications. The proposed change also benefits customers, printers, advertisers, and all affected parties by providing an opportunity to get additional subscriptions by creating more revenue and volume.

Because advertising is not permitted in items mailed at Library Mail and Media Mail rates, enclosures of Periodicals publications sample copies are limited to enclosures in Parcel Post and Bound Printed Matter and will be charged according to the weight of the parcel.

PART 111—[AMENDED]

1. The authority citation for 39 CFR part 111 continues to read as follows:

Authority: U.S.C. 552(a); 39 U.S.C. 101, 401, 403, 404, 414, 3001-3011, 3201-3219, 3403-3406, 3621, 3626, 5001.

2. Amend the following sections of the Domestic Mail Manual (DMM) as set forth below:

Domestic Mail Manual (DMM)

* * * * *

E Eligibility

* * * * *

E700 Package Services

E710 Basic Standards

1.0 Basic Information

1.1 Definition

[Revise the first sentence in 1.1 to read as follows:]

Package Services mail consists of mailable matter that is neither mailed nor required to be mailed as First-Class Mail nor entered as Periodicals except as permitted under 1.7 unless permitted or required by standard or as Customized MarketMail under E660. * * *

* * * * *

[Add new section 1.7 to read as follows:]

1.7 Attachments or Enclosures of Periodicals Sample Copies

Sample copies of authorized Periodicals publications may be enclosed or attached with merchandise sent at Parcel Post or Bound Printed Matter rates. Postage at the Parcel Post or Bound Printed Matter rate is based on the combined weight of the host piece and the sample copies enclosure.

* * * * *

An appropriate amendment to 39 CFR part 111 to reflect these changes will be published if the proposal is adopted.

Neva R. Watson,
Attorney, Legislative.

[FR Doc. 04-19991 Filed 9-1-04; 8:45 am]

BILLING CODE 7710-12-P